ENVIRONMENTAL PROTECTION AGENCY

40 CFR Part 258

[FRL-6710-4]

State of West Virginia: Final Approval of State Municipal Solid Waste Management Permit Program

AGENCY: Environmental Protection Agency.

ACTION: Proposed rule.

SUMMARY: The Environmental Protection Agency (EPA) proposes to grant complete program approval for West Virginia's Municipal Solid Waste Permit Program. In the “Rules and Regulations” section of this Federal Register, EPA is approving the remaining elements of the State's program as an immediate final rule without prior proposal because EPA views this action as noncontroversial and anticipates no adverse comments. The Agency has explained the reasons for this program approval in the preamble to the immediate final rule. If EPA does not receive adverse written comments, the immediate final rule will become effective and the Agency will not take further action on this proposal. If EPA receives adverse written comments, EPA will withdraw the immediate final rule, and it will not take effect. EPA will then address public comments in a later final rule based on this proposal. EPA may not provide further opportunity for comment. Any parties interested in commenting on this action must do so at this time.

DATES: Written comments must be received on or before July 12, 2000.

ADDRESSES: Comments should be sent to the following address where the full West Virginia program approval application is on file and may be reviewed: EPA Region III, 1650 Arch Street, Philadelphia, PA 19103-2029, or alternatively at West Virginia Division of Environmental Protection (WVDEP), 1356 Hansford Street, Charleston, WV 25301-1401.

FOR FURTHER INFORMATION CONTACT: U.S. EPA Region III, 1650 Arch Street, Philadelphia, Pennsylvania 19103-2029, Attn: Mr. Michael C. Giuranna, mailcode 3WC21, telephone (215) 814-3298. The contact for the State of West Virginia Division of Environmental Protection is Mr. Larry Atha, 1356 Hansford Street, Charleston, West Virginia 25301-1401, telephone (304) 558-6350.

SUPPLEMENTARY INFORMATION: For additional information, please see the immediate final rule published in the “Rules and Regulations” section of this Federal Register.

Authority: This notice is issued under the authority of section 2002, 4005 and 4010(c) of the Solid Waste Disposal Act, as amended, 42 U.S.C. 6912, 6945 and 6949(a).

Bradley M. Campbell,
Regional Administrator, Region III.

[FR Doc. 00-14165 Filed 6-9-00; 8:45 am]

BILLING CODE 6560-50-P